DEPARTMENT OF HEALTH AND HUMAN SERVICES

Centers for Disease Control and Prevention

Disease, Disability, and Injury Prevention and Control Special Emphasis Panel (SEP): Capacity-Building Assistance To Improve the Delivery and Effectiveness of Human Immunodeficiency Virus Prevention Services for Racial/Ethnic Minority Populations, Program Announcement Number 04019

In accordance with section 10(a)(2) of the Federal Advisory Committee Act (Pub. L. 92-463), the Centers for Disease Control and Prevention (CDC) announces the following meeting:

Name: Disease, Disability, and Injury Prevention and Control Special Emphasis Panel (SEP): Capacity-Building Assistance to Improve the Delivery and Effectiveness of Human Immunodeficiency Virus Prevention Services for Racial/Ethnic Minority Populations, Program Announcement Number 04019.

Times and Dates:

1 p.m.-6 p.m., February 8, 2004 (Open)

9 a.m.-5 p.m., February 9, 2004 (Closed)

9 a.m.-5 p.m., February 10, 2004 (Closed)

9 a.m.-5 p.m., February 11, 2004 (Closed)

9 a.m.-5 p.m., February 12, 2004 (Closed)

9 a.m.-5 p.m., February 13, 2004 (Closed)

Place: The Wyndhan Atlanta—Downtown, 160 Spring Street, Atlanta, GA 30380, (404) 688-8600.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Program Announcement Number 04019.

For Further Information Contact: Beth Wolfe, Resource Funding Analyst, National Center for HIV, STD, and TB Prevention, CDC, 1600 Clifton Road, NE, MS-E07, Atlanta, GA 30333, Telephone (404) 639-8531.

The Director, Management Analysis and Services Office, has been delegated the authority to sign Federal Register notices pertaining to announcements of meetings and other committee management activities, for both CDC and the Agency for Toxic Substances and Disease Registry.

Dated: January 13, 2004.
Alvin Hall,
Director, Management Analysis and Services Office, Centers for Disease Control and Prevention (CDC).

[FR Doc. 04-1168 Filed 1-20-04; 8:45 am]

BILLING CODE 4163-18-P